DEPARTMENT OF COMMERCE

National Oceanic and Atmospheric Administration

50 CFR Part 679

[Docket No. 071106673-8011-02]

RIN 0648-XL44

Fisheries of the Exclusive Economic Zone Off Alaska; Reallocation of Yellowfin Sole in the Bering Sea and Aleutian Islands Management Area

AGENCY: National Marine Fisheries Service (NMFS), National Oceanic and Atmospheric Administration (NOAA), Commerce.

ACTION: Temporary rule; reallocation.

SUMMARY: NMFS is reallocating the projected unused amount of the 2008 yellowfin sole total allowable catch (TAC) assigned to the Bering Sea and Aleutian Islands trawl limited access sector to the Amendment 80 cooperative in the Bering Sea and Aleutian Islands management area (BSAI). This action is necessary to allow the 2008 total allowable catch of yellowfin sole to be fully harvested.

DATES: Effective October 20, 2008, through 2400 hrs, Alaska local time (A.l.t.), December 31, 2008.

FOR FURTHER INFORMATION CONTACT: Mary Furuness, 907-586-7228.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2008 yellowfin sole TAC assigned to the Bering Sea and Aleutian Islands trawl limited access sector is 44,512 metric tons (mt) and to the Amendment 80 cooperative is 92,982 mt in the BSAI as established by the 2008 and 2009 final harvest specifications for groundfish in the BSAI (73 FR 10160, February 26, 2008).

The Administrator, Alaska Region, NMFS, has determined that 6,000 mt of the yellowfin sole TAC assigned to the BSAI trawl limited access sector will not be harvested. Therefore, in accordance with § 679.91(f), NMFS reallocates 6,000 mt of yellowfin sole from the BSAI trawl limited access sector to the Amendment 80 cooperative in the BSAI. In accordance with § 679.91(f), NMFS will reissue cooperative quota permits for the reallocated yellowfin sole following the procedures set forth in § 679.91(f)(3).

The harvest specifications for yellowfin sole included in the harvest specifications for groundfish in the BSAI (73 FR 10160, February 26, 2008) are revised as follows: 38,512 mt to the BSAI trawl limited access sector and 98,982 mt to the Amendment 80 cooperative in the in the BSAI. Table 7 is correctly revised and republished in its entirety as follows:

TABLE 7-2008 AND 2009 COMMUNITY DEVELOPMENT QUOTA (CDQ) RESERVES, INCIDENTAL CATCH AMOUNTS (ICAS), AND AMENDMENT 80 ALLOCATIONS OF THE ALEUTIAN ISLANDS PACIFIC OCEAN PERCH, FLATHEAD SOLE, ROCK SOLE, AND YELLOWFIN SOLE TACS
[Amounts are in metric tons]
Sector | Pacific ocean perch: Eastern Aleutian District: 2008 | Pacific ocean perch: Eastern Aleutian District: 2009 | Pacific ocean perch: Central Aleutian District: 2008 | Pacific ocean perch: Central Aleutian District: 2009 | Pacific ocean perch: Western Aleutian District: 2008 | Pacific ocean perch: Western Aleutian District: 2009 | Flathead sole: BSAI: 2008 and 2009 | Rock sole: BSAI: 2008 and 2009 | Yellowfin sole: BSAI: 2008 | Yellowfin sole: BSAI: 2009
TAC | 4,900 | 4,810 | 4,990 | 4,900 | 7,610 | 7,490 | 50,000 | 75,000 | 225,000 | 205,000
CDQ | 524 | 515 | 534 | 524 | 814 | 801 | 5,350 | 8,025 | 24,075 | 21,935
ICA | 100 | 100 | 10 | 10 | 10 | 10 | 4,500 | 5,000 | 2,000 | 2,000
BSAI trawl limited access | 214 | 420 | 222 | 437 | 136 | 134 | 0 | 0 | 38,512 | 37,368
Amendment 80 | 4,062 | 3,776 | 4,224 | 3,929 | 6,650 | 6,545 | 40,150 | 61,975 | 160,413 | 143,697
Amendment 80 limited access¹ | 2,154 | 0 | 2,240 | 0 | 3,526 | 0 | 4,392 | 14,972 | 61,431 | 0
Amendment 80 cooperatives¹ | 1,908 | 0 | 1,984 | 0 | 3,124 | 0 | 35,758 | 47,003 | 98,982 | 0
¹The 2009 allocations for Amendment 80 species between Amendment 80 cooperatives and the Amendment 80 limited access sector will not be known until eligible participants apply for participation in the program by November 1, 2008.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of yellowfin sole from the BSAI trawl limited access sector to the Amendment 80 cooperative in the BSAI. Since the fishery is currently open, it is important to immediately inform the industry as to the revised allocations. Immediate notification is necessary to allow for the orderly conduct and efficient operation of this fishery, to allow the industry to plan for the fishing season, and to avoid potential disruption to the fishing fleet as well as processors. NMFS was unable to publish a notice providing time for public comment because the most recent, relevant data only became available as of October 17, 2008.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: October 20, 2008.
Emily H. Menashes,
Acting Director, Office of Sustainable Fisheries, National Marine Fisheries Service.

[FR Doc. E8-25332 Filed 10-20-08; 4:15 pm]

BILLING CODE 3510-22-S